INTERNATIONAL TRADE COMMISSION

[Investigation No. 337-TA-727]

In the Matter of Certain Underground Cable and Pipe Locators; Notice of Commission Decision Not To Review Initial Determinations Terminating the Investigation Based on a Settlement Agreement

AGENCY: U.S. International Trade Commission.

ACTION: Notice.

SUMMARY: Notice is hereby given that the U.S. International Trade Commission has determined not to review initial determinations (“IDs”) (Order Nos. 5 and 6) terminating the investigation based on a settlement agreement and withdrawal of the complaint as to one respondent.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on July 19, 2010, based upon a complaint filed on behalf of Radiodetection, Ltd. of the United Kingdom (“Radiodetection”) on June 10, 2010. 75 FR 41890 (July 19, 2010). The complaint alleged violations of section 337 of the Tariff Act of 1930 (19 U.S.C. § 1337) in the importation into the United States, the sale for importation, and the sale within the United States after importation of certain underground cable and pipe locators that infringe certain claims of U.S. Patent No. 6,268,731. The complaint named as respondents Vivax-Metrotech Corp. of Santa Clara, California (“Vivax-Metrotech”); SebaKMT of Baunach, Germany (“SebaKMT”); and Leidi Utility Supply Ltd. of Shanghai, China (“Leidi Utility”).

On November 15, 2010, Complainant Radiodetection and Respondents Vivax-Metrotech and SebaKMT filed a joint motion pursuant to 19 CFR 210.21(b) to terminate the investigation as to all respondents, including Leidi Utility, based on a settlement agreement. On November 22, 2010, Radiodetection and Leidi Utility filed a joint motion pursuant to 19 CFR 210.21(a) seeking to withdraw the complaint and terminate the investigation with respect to Leidi Utility. On November 29, 2010, the Commission investigative attorney filed a response in support of the motions to terminate. On December 1, 2010, the ALJ issued Order Nos. 5 and 6, granting the motions. No petitions for review were filed.

The Commission has determined not to review the subject ID. The investigation is terminated in its entirety.

This action is taken under the authority of section 337 of the Tariff Act of 1930, as amended (19 U.S.C. 1337), and of section 210.42(h) of the Commission's Rules of Practice and Procedure (19 CFR 210.42(h)).

By order of the Commission.
Issued: December 22, 2010.
Marilyn R. Abbott,
Secretary to the Commission.

[FR Doc. 2010-32714 Filed 12-28-10; 8:45 am]

BILLING CODE 7020-02-P